DEPARTMENT OF STATE

[Public Notice 4383]

Bureau of Educational and Cultural Affairs Request for Grant Proposals: FY 2004 Freedom Support Educational Partnerships Program With Eurasia

Summary: The Office of Global Educational Programs of the Bureau of Educational and Cultural Affairs announces an open competition for the Freedom Support Educational Partnerships Program with Eurasia. Accredited, post-secondary educational institutions meeting the provisions described in Internal Revenue Code section 26 U.S.C. 501(c)(3) may submit proposals to pursue institutional or departmental objectives in partnership with foreign counterpart institutions with support from the Freedom Support Educational Partnerships Program with Eurasia. These objectives should directly support the overall goals of the Program: to support democratic systems and market economies in Armenia, Azerbaijan, Belarus, Georgia, Kazakhstan, Kyrgyzstan, Moldova, Russia, Tajikistan, Ukraine, and Uzbekistan, and to strengthen mutual understanding and cooperation between these countries and the United States. The means of achieving these objectives may include faculty exchange, curriculum development, and outreach to professionals and other members of the communities served by the participating institutions.

Program Overview

The Freedom Support Educational Partnerships Program with Eurasia provides grants to U.S. colleges or universities of up to $250,000 to support institutional linkages in higher education with partners in eligible countries. Other RFGPs for educational partnerships may also be published this fiscal year, with information available from: http://exchanges.state.gov/education/rfgps/.

Applicants are strongly encouraged to discuss their project ideas during the proposal development process with the relevant program officer (please see FOR FURTHER INFORMATION CONTACT section for contact details) who may be able to provide additional insight into priorities by country as well as background information on what types of projects are most competitive for funding.

Project Objectives

The purpose of the program is to support the development or revision of courses, curricula, outreach programs and programs of study at participating institutions in ways that strengthen democracy and free markets in Eurasia as well as mutual understanding between the people of the United States and those of Eurasia. Applicants are invited to propose institutional objectives that support this purpose. Proposals should explain in detail how project activities will enable participants to achieve specific changes at the cooperating departments or institutions, whose objectives should be consistent with the Program's goal of supporting democratic systems based on market economies. While the benefits of the project to each of the participating institutions may differ significantly in nature and scope based on their respective needs and resource bases, proposals should outline well-reasoned strategies that are designed to meet specific objectives at each participating U.S. and foreign department or institution as a whole. In most cases a proposal to pursue a limited number of related thematic objectives at each institution will be stronger and more coherent than a proposal addressing a large number of unrelated objectives.

For example, proposals may outline the parameters and possible content of new courses; new teaching specializations or methodologies; new or revised curricula; and new programs for outreach to educators, professional groups, or the general public. Proposals should explain in substantial detail strategies to promote curriculum, faculty, and staff development, as well as administrative reform, at the foreign partner institution(s). Projects may result in the development of a new academic program or the restructuring of an existing program, and should equip institutions of higher education to contribute to democracy and/or open markets in the foreign partner country. Plans to extend the benefits of the project to larger audiences through outreach to foreign government, NGO, and business representatives are especially encouraged.

Projects focusing on curricular reform at the foreign partner institution should describe the existing curriculum, the courses targeted for revision, and how the current content will be restructured to incorporate the new academic themes. The proposal should additionally describe the topics and content of any new courses or educational materials that will be developed and introduced. If the project proposes to develop a new degree or certificate program, the proposal should detail the steps being taken to apply for approval for the new program from the foreign partner's Ministry of Education (or other appropriate agency). The proposal should also describe the target student audience that will be served by the creation of this program and the potential market for the program.

In addition to demonstrating how each participating institution can assist its partner(s) to meet institutional goals, proposals should also explain how this cooperation will enable each institution to address its own needs. Accordingly, applicants are encouraged to describe the needs and deficiencies as well as the capabilities and strengths of each participating department and institution, and how each institution will contribute to and benefit from the achievement of project objectives. Proposals that realistically assess institutional capacities will be better able to outline compelling objectives that address institutional needs and justify a request for support. To be competitive, proposals should demonstrate that the participating institutions understand one another and are committed to mutual support and cooperation in project implementation.

Projects may include soundly planned distance learning activities. These activities should be directly linked to stated project goals and outcomes. Proposals with distance learning components should describe pertinent course delivery methods, audiences, and technical requirements in detail. Proposals should discuss not only the infrastructure at the partner institution, but also the level of access among the target population. Proposals that discuss distance-learning elements without addressing the technological access and capacity of the foreign partner institution will be considered less competitive.

If the proposed partnership would occur within the context of a previous or ongoing project, the proposal should outline distinct project objectives and outcomes for the new project and explain how the request for Bureau funding would build upon the pre-existing relationship. Previous projects should be described, with details about the amounts and sources of support and the results of previous cooperative efforts.

Institutions receiving partnership grant awards will be expected to submit periodic reports on the results of program activities. Proposals should describe and budget for a methodology for project evaluation. The evaluation plan should include an assessment of the current status of each participating department's and institution's needs at the time of program inception with specific reference to project objectives; formative evaluation to allow for mid-course revisions in the implementation strategy; and, at the conclusion of the project, summative evaluation of the degree to which the project's objectives have been achieved. The final evaluation should include indicators of the project's influence on the participating institutions and their surrounding communities or societies. The final evaluation should also include recommendations about how to build upon project achievements. Evaluative observations by external consultants with appropriate subject and regional expertise are especially encouraged.

Institutional Commitment

A U.S. college or university must submit the proposal and must be prepared to serve as the grant recipient with responsibility for project coordination. Proposals must include letters of commitment from all institutional partners including the institution submitting the proposal. Each letter must be signed by an official who is authorized to commit institutional resources to the project. In addition, letters of support should explain why each institution is interested in the project.

Costs

The commitment of all partner institutions to the proposed project should be reflected in the cost-sharing, which they offer in the context of their respective institutional capacities. Although the contributions offered by institutions with relatively few resources may be less than those offered by applicants with greater resources, all participating institutions should identify appropriate contributions. These costs may include estimated in-kind contributions. U.S. institutions are strongly encouraged to contribute to the international travel expenses for U.S. participants as part of their institutional cost-share.

Proposed cost-sharing will be considered an important indicator of the applicant institution's interest in the project and potential to benefit from it.

The Bureau's support may be used to assist with the costs of the exchange visits as well as the costs of the administration of the project by the U.S. grantee institution. U.S. administrative costs that may be covered by the Bureau include administrative salaries, faculty replacement costs, other direct administrative costs, and limited indirect costs. The cost of administering the project at the foreign partner organization(s) is also eligible for the Bureau's support. Although each grant will be awarded to a single U.S. institutional partner, adequate provision in the proposal for the administrative costs of the project at all partner institutions, including the foreign partner(s), is strongly encouraged—especially if a foreign partner has relatively few resources. More information on partner institution eligibility in this competition is found in this RFGP under the headings “U.S. Institution and Participant Eligibility” and “Foreign Institution and Participant Eligibility.”

The proposal may include a request for funding to reinforce the activities of exchange participants through the establishment and maintenance of Internet and/or electronic mail facilities at the foreign partner institution as well as through interactive technology or non-technology based distance learning programs.

Projects focusing primarily on technology or physical infrastructure development are not eligible for consideration under this competition. Proposals that include Internet, electronic mail, and other interactive technologies in countries where these technologies are not easily maintained or financed should discuss how the foreign partner institution will cover its costs after the project ends.

See the associated document entitled “Project Objectives, Goals, and Implementation” (POGI) for additional information on the funding the Bureau may provide and on restrictions and maximum amounts that apply to certain budget categories.

Applicants may propose other project activities not specifically mentioned in this solicitation if the activities reinforce the impact of the project.

Pending the availability of FY 2004 funds, the maximum award in the FY 2004 competition will be $250,000. The program awards grants for up to three years. Requests for amounts smaller than the maximum are eligible. Budgets and budget notes should carefully justify the amounts requested. Grants awarded to organizations with less than four years of experience in conducting international exchange programs will be limited to $60,000.

Foreign Country and Location Eligibility:

Foreign partners from the following countries are eligible:

—Armenia;

—Azerbaijan: Proposals which designate public universities are encouraged;

—Belarus;

—Georgia;

—Kazakhstan;

—Kyrgyzstan;

—Moldova;

—Russia: Proposals for partnerships with institutions located in Moscow or St. Petersburg should clearly indicate how those partnerships would have an impact on other regions. Proposals which designate a partner institution in the Russian Far East and in Tomsk are especially encouraged.

—Tajikistan: There is currently a State Department warning advising U.S. citizens of potential danger in traveling in Tajikistan. This situation may change between the time this solicitation is issued and the time that a grant is implemented. Applicants may propose plans for travel by U.S. participants to Tajikistan, but such travel will be subject to prior approval by the Department of State.

—Ukraine: Proposals which designate partner institutions outside Kiev are encouraged;

—Uzbekistan.

Partnerships including a secondary foreign partner in a country not included in the above list are eligible; however, with the exception noted below under the heading “Central and Eastern European Partners,” the Bureau will not cover the costs of overseas partners in countries that are not listed as eligible in this section.

Central and Eastern European Secondary Partners: The Bureau encourages proposals that promote regional cooperation between Central European and Eurasian countries and that build upon collaboration between U.S. institutions and their existing partners in Central and Eastern Europe. Funds may be budgeted for the exchange of faculty between foreign partner institutions and institutions of higher learning in Central and Eastern Europe (applicants planning to submit proposals for trilateral partnerships with a partner from Central and Eastern Europe are encouraged to contact the program office).

Eligible Fields

The following fields are eligible if proposed projects in these fields will support democratic systems and market economies in the eligible countries:

—The social, political, and economic sciences;

—Business, accounting and trade;

—Journalism and media studies;

—Law;

—Public administration and public policy analysis;

—Library science;

—Education, continuing education, and educational administration, including Teaching English as a Foreign Language (please note, projects focusing on the Teaching English as a Foreign Language are not encouraged for Russia or Moldova).

U.S. Institution and Participant Eligibility

The lead institution and grant recipient in the project must be an accredited U.S. college or university. Applications from community colleges, institutions serving significant minority populations, undergraduate liberal arts colleges, comprehensive universities, research universities, and combinations of the above are eligible. The lead U.S. organization in a consortium or other combination of cooperating institutions is responsible for submitting the application. Each application must document the lead organization's authority to represent all U.S. cooperating partners. Secondary U.S. partners may include governmental or non-governmental organizations at the federal, state, or local levels as well as non-profit service, community, and professional organizations.

With the exception of translators and outside evaluators, participation is limited to teachers, advanced graduate students, and administrators from the participating U.S. institution(s). Advanced graduate students at the U.S. institution(s) are eligible for support from the project as visiting instructors at a foreign partner institution. Applicants planning to submit proposals with advanced graduate students as participants are encouraged to contact the program office to discuss the rationale for these visits.

Foreign Institution and Participant Eligibility

In eligible countries, participation as a primary partner is open to recognized institutions of post-secondary education. Secondary partners may include independent research institutes, relevant governmental organizations, and private non-profit organizations with project-related educational objectives. Except for translators and outside consultants reporting on the status of project objectives, participation is limited to teachers, administrators, researchers, or advanced students from the participating foreign institution(s). Any advanced student participant must have teaching responsibilities or be preparing for such responsibilities. Foreign participants must be both qualified to receive U.S. J-1 visas and willing to travel to the U.S. under the provisions of a J-1 visa during the exchange visits funded by this Program. Foreign participants may not be U.S. citizens. If proposed participants are alumni of previous partnership projects or other U.S. government funded programs, the proposal should discuss why their participation in this new program is important to the overall success of the project.

Ineligibility

A proposal will be deemed technically ineligible for consideration if:

(1) It does not fully adhere to the guidelines established in this document and in the Solicitation Package;

(2) It is not received by the deadline;

(3) It is not submitted by the U.S. partner;

(4) One of the partner institutions is ineligible;

(5) The foreign country or geographic location is ineligible.

Projects must conform with the Bureau's requirements and guidelines outlined in the solicitation package for this RFGP. Proposals that do not follow RFGP requirements and the guidelines appearing in the POGI and PSI will be excluded from consideration due to technical ineligibility.

Announcement Title and Number: All correspondence with the Bureau concerning this RFGP should reference the above title and number ECA/A/S/U-04-01.

FOR FURTHER INFORMATION CONTACT: For further information, contact the Humphrey Fellowships and Institutional Linkages Branch (Freedom Support Educational Partnerships Program with Eurasia); Office of Global Educational Programs; Bureau of Educational and Cultural Affairs; ECA/A/S/U, Room 349; U.S. Department of State; SA-44, 301 Fourth Street, SW., Washington, DC 20547; phone: (202) 619-5289, fax: (202) 401-1433.

Prospective applicants are strongly encouraged to communicate about their proposals with one of the following regional program officers: Jonathan Cebra (telephone: (202) 205-8379, e-mail: jcebra@pd.state.gov) on all inquiries and correspondence regarding partnerships in the Central Asia or Caucasus regions; Michelle Johnson (telephone: (202) 205-8434, e-mail: johnsonmi@pd.state.gov) on all inquiries and correspondence regarding partnerships with institutions in Russia; Paul Schelp (telephone: (202) 205-8266, e-mail: pschelp@pd.state.gov) on all inquiries and correspondence regarding partnerships with institutions in Belarus, Ukraine, or Moldova.

Please read the complete Federal Register announcement before sending inquiries or submitting proposals. Once the RFGP deadline has passed, Bureau staff may not discuss this competition with applicants until the proposal review process has been completed.

To Download a Solicitation Package Via Internet

Projects must conform with the Bureau's requirements and guidelines outlined in the Solicitation Package for this RFGP. The Solicitation Package includes more detailed award criteria, all application forms, and guidelines for preparing proposals, including specific criteria for preparation of the proposal budget. The Solicitation Package includes the Project Objectives, Goals, and Implementation (hereafter, POGI) and the Proposal Submission Instructions (hereafter, PSI). The entire Solicitation Package may be downloaded from the Bureau's Web site at: http://exchanges.state.gov/education/rfgps. Please read all information before downloading.

Deadline for Proposals

All proposal copies must be received at the Bureau of Educational and Cultural Affairs by 5 p.m. Washington, DC time on Friday, December 5, 2003. Faxed documents will not be accepted at any time. Documents postmarked the due date but received on a later date will not be accepted. Each applicant must ensure that the proposals are received by the above deadline.

Applicants must follow all instructions in the Solicitation Package. The original and 10 copies of the complete application should be sent by the project's lead U.S. college or university to: U.S. Department of State, SA-44, Bureau of Educational and Cultural Affairs, Ref.: ECA/A/S/U-04-01, Program Management, ECA/EX/PM, Room 534, 301 4th Street, SW., Washington, DC 20547.

Submission of Electronic Copies

No later than one week after the deadline for receipt of the grant proposal, applicants must also submit the “Proposal Title Page,” “Executive Summary,” and “Proposal Narrative,” sections of the proposal as e-mail attachments in Microsoft Word (preferred), WordPerfect, or as ASCII text files to the following e-mail address: partnerships@pd.state.gov. In the e-mail message subject line, include the following: ECA/A/S/U-04-01 and the country or countries of the foreign partner(s) together with the names of the U.S. and foreign partner institutions. To reduce the time needed to obtain advisory comments from the Public Affairs Sections of U.S. Embassies overseas, the Bureau will transmit these files electronically to these offices.

Grant Duration

Pending the availability of funds, grant activities should begin on or about September 1, 2004 and may continue for up to three years. Grant activities are expected to be completed within a three-year timeframe.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity' section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106—113 requires that the governments of the countries described above do not have inappropriate influence in the selection process. Proposals should reflect advancement of these goals in their program contents, to the full extent deemed feasible.

Adherence to All Regulations Governing the J Visa

The Bureau of Educational and Cultural Affairs is placing renewed emphasis on the secure and proper administration of Exchange Visitor (J visa) Programs and adherence by grantees and sponsors to all regulations governing the J visa. Therefore, proposals should demonstrate the applicant's capacity to meet all requirements governing the administration of Exchange Visitor Programs as set forth in 22 CFR 6Z, including the oversight of Responsible Officers and Alternate Responsible Officers, screening and selection of program participants, provision of pre-arrival information and orientation to participants, monitoring of participants, proper maintenance and security of forms, record-keeping, reporting, and other requirements. The Grantee will be responsible for issuing DS-2019 forms to participants in this program.

A copy of the complete regulations governing the administration of Exchange Visitor (J) programs is available at http://exchanges.state.gov or from:

United States Department of State, Office of Exchange Coordination and Designation, ECA/EC/ECD—SA-44, Room 734, 301 4th Street, SW., Washington, DC 20547, Telephone: (202) 401-9810, Fax: (202) 401-9809.

Review Process

The Bureau will acknowledge receipt of all proposals and will review them for technical eligibility. All eligible proposals will be evaluated by independent external reviewers. These reviewers, who will be professional, scholarly, or educational experts with appropriate regional and thematic knowledge, will provide recommendations and assessments for consideration by the Bureau. The Bureau will consider for funding only those proposals which are recommended for funding by the independent external reviewers.

Proposals may be reviewed by the Office of the Legal Advisor or by other offices of the U.S. Department of State. In addition, U.S. Embassy officers may provide advisory comment. Final funding decisions are at the discretion of the Department of State's Assistant Secretary for Educational and Cultural Affairs. Final technical authority for assistance awards (grants) will reside with the Bureau's grants officer.

Review Criteria

All reviewers will use the criteria below to reach funding recommendations and decisions. Technically eligible applications will be reviewed competitively according to these criteria, which are not rank-ordered or weighted.

(1) Broad and Enduring Significance of Institutional Objectives: Project objectives should have significant and ongoing impact on the participating institutions and their surrounding societies, communities, or countries by providing a deepened understanding of critical issues in one or more of the eligible fields. Project objectives should relate clearly to institutional and societal needs.

(2) Creativity and Feasibility of Strategy to Achieve Project Objectives: Strategies to achieve project objectives should be feasible and realistic within the projected budget and timeframe. Proposals should contain detailed information on specific program activities and concrete descriptions of how goals will be achieved.

(3) Institutional Commitment to Cooperation: Proposals should demonstrate significant understanding by each institution of its own needs and capacities and of the needs and capacities of its proposed partner(s), together with a strong commitment by the partner institutions, during and after the period of grant activity, to cooperate with one another in the mutual pursuit of institutional objectives.

(4) Project Evaluation: Proposals should describe a methodology for determining the degree to which a project meets its objectives, both while the project is underway and at its conclusion. The final project evaluation should include an external component and should provide observations about the project's influence within the participating institutions as well as their surrounding communities or societies.

(5) Cost-effectiveness: Administrative and program costs should be reasonable and appropriate with cost sharing provided by all participating institutions within the context of their respective capacities. The Bureau views cost sharing as a reflection of institutional commitment to the project. Contributions should not be limited to indirect costs.

(6) Support of Diversity: Proposals should demonstrate substantive support of the Bureau's policy on diversity by explaining how issues of diversity are included in project objectives for all institutional partners. Issues resulting from differences of race, ethnicity, gender, religion, geography, socio-economic status, or physical challenge should be addressed during project implementation. In addition, project participants and administrators should reflect the diversity within the societies which they represent (see the section of this document on “Diversity,Freedom, and Democracy Guidelines”). Proposals should also discuss how the various institutional partners approach diversity issues in their respective communities or societies.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above has previously been provided through the Freedom for Russia and Emerging Eurasian Democracies and Open Markets Support Act of 1992 (FREEDOM Support Act) legislation. The President's budget request for Educational and Cultural Exchanges for Fiscal Year 2004 includes funding for this purpose.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: June 13, 2003.
C. Miller Crouch,
Principal Deputy Assistant Secretary, Bureau of Educational and Cultural Affairs, Department of State.

[FR Doc. 03-15529 Filed 6-18-03; 8:45 am]

BILLING CODE 4710-05-P